DEPARTMENT OF JUSTICE

Notice of Lodging of Consent Decree Under the Clean Water Act, the Clean Air Act, and the Resource Conservation and Recovery Act

Under 28 CFR 50.7, notice is hereby given that on May 11, 2006, a proposed Consent Decree in United States of America v. Rohm and Haas Texas Inc., 4:06-cv-01622, was lodged with the United States District Court for the Southern District of Texas.

The United States alleges that Rohm and Haas Texas Inc. (“Rohm and Haas”) violated Clean Water Act Section 301, 33 U.S.C. 1311, by discharging pollutants in excess of permit effluent limits; violated Clean Air Act Section 112(d), 42 U.S.C. 7412(d), by failing to comply with the requirements of the national emission standards for hazardous air pollutants (“NESHAPS”) 40 CFR Part 63; and violated the Resource Conservation and Recovery Act Section 3008(a) and (g), 42 U.S.C. 6928(a) and (g), by failing to comply with the provisions of the federally approved Texas hazardous waste management program. The alleged violations occurred at a chemical manufacturing complex owned and operated by Rohm and Haas located in Deer Park, Texas (“the facility”). The United States sought injunctive relief and civil penalties to address these violations.

Under the proposed Consent Decree, Rohm and Haas will pay a civil penalty of $485,000 and implement a supplemental environmental project (“SEP”) which will cost at least $670,000. The SEP involves the purchase of at least 300 acres of coastal wetlands and associated upland prairie in the Texas Galveston Bay Watershed and the transfer of that property to a non-profit for conservation. The proposed Consent Decree also requires monitoring of CWA compliance. If Rohm and Haas violates the effluent limits in its permit, the Consent Decree requires the company to take action to prevent future violations.

The United States Department of Justice will receive for a period of thirty (30) days from the date of this publication comments relating to the Consent Decree. Comments should be addressed to the Assistant Attorney General, Environment and Natural Resources Division, P.O. Box 7611, U.S. Department of Justice, Washington, DC 20044-7611, and should refer to United States of America v. Rohm and Haas Texas Inc., D.J. Ref. No. 90-5-1-1-06926.

During the public comment period, the Consent Decree may be examined on the following Department of Justice Web site: http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax number (202) 514-0097, phone confirmation number (202) 514-1547. If requesting from the Consent Decree Library a copy of the Consent Decree, please enclose a check in the amount of $22.25 (25 cents per page reproduction cost) payable to the U.S. Treasury.

Thomas A. Mariani, Jr.,
Assistant Section Chief, Environmental Enforcement Section, Environment and Natural Resources Division.

[FR Doc. 06-4831 Filed 5-24-06; 8:45am]

BILLING CODE 4410-15-M